DEPARTMENT OF TRANSPORTATION

National Highway Traffic Safety Administration

[Docket Number NHTSA-2009-0032]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval concerning vehicle safety features for consumer information purposes (OMB Control number 2127-0629).

DATES: Comments must be received on or before May 8, 2009.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue, SE., Washington, DC 20590.

• Hand Delivery or Courier: West Building Ground Floor, Room W12-140, 1200 New Jersey Avenue, SE., between 9 a.m. and 5 p.m. Eastern Time, Monday through Friday, except Federal holidays.

• Fax: (202) 493-2251.

Regardless of how you submit your comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.) You may review DOT's complete Privacy Act Statement in the Federal Register published on April 11, 2000 (65 FR 19477-78).

Docket: For access to the docket to read background documents or comments received, go to the street address listed above. The Internet access to the docket will be at: http://www.regulations.gov. Follow the online instructions for accessing the dockets.

FOR FURTHER INFORMATION CONTACT: Complete copies of each request for collection of information may be obtained at no charge from Johanna Lowrie, U.S. Department of Transportation, NHTSA, Room W43-410, 1200 New Jersey Ave., SE., Washington, DC 20590. Ms. Lowrie's telephone number is (202) 366-5269. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation at 5 CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. in submission of responses.

In compliance with these requirements, NHTSA asks for public comments on the following proposed collections of information:

Title: Vehicle Information for the General Public.

OMB Control Number: 2127—0629.

Affected Public: Manufacturers that sell motor vehicles under 10,000 lbs. in the United States.

Abstract: NHTSA's mission is to save lives, prevent injury, and reduce motor vehicle crashes. Providing consumer information on vehicle safety is an important means of improving vehicle safety through market forces. NHTSA provides consumers with vehicle safety information such as front and side crash results, rollover propensity, and the availability of a wide array of safety features provided on each vehicle model. NHTSA also uses this safety feature information when responding to public inquiries and analyzing rulemaking petitions which ask the agency to mandate certain safety features.

The agency has attempted to coordinate and reduce the reporting burden associated with this information collection. Another information collection obtains data related to motor vehicle compliance with the agency's Federal motor vehicle safety standards. Although the consumer information collection data is distinct and unique from the compliance data, respondents to both collections are the same. Consequently, the consumer information collection is closely coordinated with the compliance collection to enable responders to assemble the data most efficiently. The burden is further made easier by sending out electronic files to the respondents in which the data is entered and electronically returned to the agency.

The consumer information collected is used on the agency's http://www.safercar.gov Web site, in the “Buying a Safer Car” and “Buying a Safer Car for Child Passengers” brochures, in other consumer publications, as well as for internal agency analyses and responses to consumer inquiries.

Estimated Annual Burden: 924 hours.

Number of Respondents: 21.

Comments are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: 44 U.S.C. 3506(c); delegation of authority at 49 CFR 1.50.

Issued on: March 3, 2009.
Stephen R. Kratzke,
Associate Administrator for Rulemaking.

[FR Doc. E9-4852 Filed 3-6-09; 8:45 am]

BILLING CODE 4910-59-P